DEPARTMENT OF LABOR

Office of the Secretary

Submission for OMB Review; Comment Request

June 25, 2003.

The Department of Labor (DOL) has submitted the following public information collection requests (ICR's) to the Office of Management and Budget (OMB) for review and approval in accordance with the Paperwork Reduction Act of 1995 (Pub. L. 104-13, 44 U.S.C. Chapter 35). A copy of these ICR's, with applicable supporting documentation, may be obtained by calling the Department of Labor. To obtain documentation, contact Vanessa Reeves on 202-693-4124 (this is not a toll-free number) or E-Mail: reeves.vanessa2@dol.gov.

Comments should be sent to Office of Information and Regulatory Affairs, Attn: OMB Desk Officer for the Bureau of Labor Statistics (BLS), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Bureau of Labor Statistics.

Type of Review: Extension of a currently approved collection.

Title: Labor Market Information (LMI) Cooperative Agreement.

OMB Number: 1220-0079.

Affected Public: State, Local or Tribal Government.

Frequency: Monthly, Quarterly, and Annually.

Type of Response: Recordkeeping and Reporting.

Information collection | Respondents | Frequency | Responses | Time | Total hours
Work statements | 55 | 1 | 55 | 1-2 hr. | 55-110
BIF (LMI 1A, 1B) | 55 | 1 | 55 | 1-6 hr. | 55-330
Quarterly automated financial reports | 48 | 4 | 192 | 10-50 min. | 32-160
Monthly automated financial reports | 48 | *8 | 384 | 5-25 min. | 32-160
BLS cooperative statistics financial report (LMI 2A) | 7 | 12 | 84 | 1-5 hr. | 84-420
Quarterly Status Report (LMI 2B) | 1-30 | 4 | 4-120 | 1 hr. | 4-120
Budget Variance Request Form | 1-55 | 1 | 1-55 | 5-25 min. | 0-23
Total | 1-55 |  | 775-945 |  | 262-1323
Average Totals | 55 |  | 860 |  | 793
* Reports are not received for end-of-quarter months, i.e., December, March, June, September.

Total Annualized Capital/Startup Costs: $0.

Total Annual Costs (operating/maintaining systems or purchasing services): $0.

Description: The LMI Cooperative Agreement Includes all information needed by the State Employment Security Agencies to apply for funds to assist them to operate one of more of the five LMI programs operated by the Bureau of Labor Statistics, and, once awarded, reported on the status of obligation and expenditure of funds as well as close out the Cooperative Agreement.

Agency: Bureau of Labor Statistics.

Type of Review: Reinstatement, without change, of a previously approved collection for which approval has expired.

Title: Veterans Supplement to the CPS.

OMB Number: 1220-0102.

Affected Public: Individuals or households.

Frequency: Biennially.

Type of Response: Reporting.

Number of Respondents: 14,400.

Number of Annual Responses: 14,400.

Estimated Time Per Responses: 1 minutes.

Total Burden Hours: 240.

Total Annualized Capital/Startup Costs: $0.

Total Annual Costs (operating/maintaining systems or purchasing services): $0.

Description: The Veterans supplement provides information on the labor force status of disabled veterans, Vietnam war theater veterans, and recently discharged veterans, including their employment status. The supplement also provides information on veterans' participation in various employment and training programs. The data collected through this supplement also will be used by the Veterans Employment and Training Service and the Department of Veterans Affairs to determine policies that better meet the needs of our Nation's veteran population.

Ira L. Mills,
Departmental Clearance Officer.

[FR Doc. 03-17189 Filed 7-7-03; 8:45 am]

BILLING CODE 4510-28-P